ENVIRONMENTAL PROTECTION AGENCY

40 CFR Part 80

[EPA-HQ-OAR-2005-0161; FRL-8945-6]

RIN 2060-A081

Regulation of Fuels and Fuel Additives: Changes to Renewable Fuel Standard Program; Notice of Availability of Expert Peer Review Record

AGENCY: Environmental Protection Agency (EPA).

ACTION: Request for comments.

SUMMARY: The U.S. Environmental Protection Agency (“EPA”) announces the availability of documents pertaining to the expert peer review record completed on the Renewable Fuel Standard Program (RFS2) Lifecycle Greenhouse Gas (GHG) Analysis. On May 5, 2009, EPA announced proposed revisions to the National Renewable Fuel Standard program (commonly known as the RFS program) as required by the Energy Independence and Security Act (EISA) of 2007. EISA established new renewable fuel categories and eligibility requirements, including setting the first ever mandatory GHG reduction thresholds for the various categories of renewable fuels. EISA also defined the term lifecycle greenhouse gas (GHG) emissions. As part of proposed revisions to the RFS program and in accordance with the EISA definition of GHG emissions, EPA examined the GHG impacts associated with different types of renewable fuels. Several new pieces of analysis were developed to support this lifecycle assessment. EPA decided to initiate an independent peer review to help respond to stakeholder concerns and to ensure that the Agency makes decisions based on the best science available. The Agency, in accordance with the Office of Management and Budget and EPA peer review guidance contracted with independent, third party sources to conduct an external expert peer review of this work. The results of the expert peer review are being made available to the public for notice and comment to supplement the current record.

DATES: Written comments must be received on or before September 25, 2009.

ADDRESSES: Submit your comments, identified by Docket ID No. EPA-HQ-OAR-2005-0161, by one of the following methods:

• www.regulations.gov: Follow the on-line instructions for submitting comments.

• E-mail: a-and-r-docket@epa.gov.

• Mail: Air and Radiation Docket and Information Center, Environmental Protection Agency, Mailcode: 2822T, 1200 Pennsylvania Ave., NW., Washington, DC 20460. In addition, please mail a copy of your comments on the information collection provisions to the Office of Information and Regulatory Affairs, Office of Management and Budget (OMB), Attn: Desk Officer for EPA, 725 17th St., NW., Washington, DC 20503.

• Hand Delivery: EPA Docket Center, EPA West Building, Room 3334, 1301 Constitution Ave., NW., Washington, DC 20004. Such deliveries are only accepted during the Docket's normal hours of operation, and special arrangements should be made for deliveries of boxed information.

Instructions: Direct your comments to Docket ID No. EPA-HQ-OAR-2005-0161. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, please refer to the notice of proposed rulemaking (Section XI, Public Participation, of the SUPPLEMENTARY INFORMATION section of the proposed rulemaking document).

How Can I Access the Docket?

All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

How Can I Get Copies of This Document, the Proposed Rule, and Other Related Information?

The EPA has established a docket for this action under Docket ID No. EPA-HQ-OAR- 2005-0161. The EPA has also developed a Web site for the proposed RFS2 rule, including the notice of proposed rulemaking, at: http://www.epa.gov/otaq/renewablefuels/index.htm. Please refer to the notice of proposed rulemaking for detailed information on accessing information related to the proposal, including the expert peer review record.

FOR FURTHER INFORMATION CONTACT: Julia MacAllister, Office of Transportation and Air Quality, Assessment and Standards Division, Environmental Protection Agency, 2000 Traverwood Drive, Ann Arbor, MI 48105; telephone number: (734) 214-4131; Fax number: (734) 214-4816; E-mail address: macallister.julia@epa.gov, or Assessment and Standards Division Hotline; telephone number (734) 214-4636; E-mail address: asdinfo@epa.gov.

SUPPLEMENTARY INFORMATION: Background: To meet the lifecycle requirements as defined by the Energy Independence and Security Act of 2007 (EISA), EPA, in consultation with the U.S. Department of Agriculture (USDA) and the U.S. Department of Energy (DOE), developed a comprehensive methodology, including an assessment of significant indirect land use impacts. EPA has specifically relied on a number of expert peer reviewed models and data sources for individual components of the analysis. This methodology is described in detail in both the Preamble and Draft Regulatory Impact Analysis of EPA's Notice of Proposed Rulemaking available at: http://www.epa.gov/OMS/renewablefuels/#regulations.

In addition, several new pieces of analysis were developed to support this lifecycle assessment and these new pieces underwent scientific expert peer review contemporaneously with the public comment period of the rulemaking. The new pieces of analysis presented for expert peer review were: (1) Land use modeling (use of satellite data/land conversion GHG emission factors); (2) Methods to account for the variable timing of GHG emissions; (3) EPA estimates of GHG emissions from foreign crop production (modeling and data used); (4) How the models EPA relied upon are used together to provide overall lifecycle estimates (not a review of models themselves but how the results of each have been used together).

The reviews were conducted following the Office of Management and Budget's (OMB) expert peer review guidance that ensures consistent government-wide implementation of expert peer review and according to EPA's longstanding and rigorous expert peer review policies.

In accordance with this guidance, EPA used independent, third-party contractors to conduct the external expert peer review. The contractor was responsible for identifying a list of expert reviewers and checking for possible conflict of interest. EPA provided the contractor with a description of expertise required and examples of experts that fit the expertise needed for each review. EPA also provided a list of names, submitted from several external sources, for the contractor to consider during the selection process. Further, EPA provided charge questions for each review which guided the review process. For these particular expert peer reviews, the charge questions were reviewed by OMB. As part of the review process, the Contractor also developed the expert peer review record which EPA is now publicly available. The expert peer reviewers were charged with working independently and were not asked to reach a consensus decision.

Notice of Availability: The expert peer review records completed in this process are now available in the public docket and available at http://www.epa.gov/otaq/renewablefuels/index.htm.

The docket includes: Materials provided to the expert peer reviewers; list of names and affiliations of the expert peer reviewers; a summary of comments, as well as comments attributable to individual reviewers.

Dated: August 7, 2009.
Margo T. Oge,
Director, Office of Transportation and Air Quality.

[FR Doc. E9-19466 Filed 8-14-09; 8:45 am]

BILLING CODE 6560-50-P